OFFICE OF PERSONNEL MANAGEMENT

Proposed Collection; Comment Request for Revised Information Collections Fingerprint Chart Standard Form 87 (SF-87) and Standard Form 87A (SF-87A), OMB No. 3206-0150

AGENCY: Office of Personnel Management.

ACTION: Notice.

SUMMARY: In accordance with the Paperwork Reduction Act of 1995 (Pub. L. 104-13), this notice announces that the Office of Personnel Management (OPM) intends to submit to the Office of Management and Budget a request for clearance of revised information collections. The Fingerprint Charts (SF-87 and SF-87A) are used in processing fingerprint checks submitted to the Federal Bureau of Investigation (FBI) to assist in determining whether an applicant is suitable for Federal employment and should be granted a security clearance.

The SF-87 and SF-87A are completed by:

• Applicants to Government positions;

• Incumbents of Government positions;

• Contractors for the Government; and

• Military personnel.

The SF-87 and SF-87A are used as the basis for criminal history checks to establish suitability for:

• Initial employment or retention as a Government employee;

• Initial employment or retention as a contract employee;

• Public trust positions; and

• Sensitive or national security positions requiring access to classified national security information or special nuclear information or material.

Comments are particularly invited on:

• Whether this collection of information is necessary for the proper performance of functions of the Office of Personnel Management and its Center for Federal Investigative Services, which administers its background investigations.

• Whether our estimate of the public burden of this collection is accurate, and based on valid assumptions and methodology; and

• Ways in which we can minimize the burden of the collection of information on those who are asked to respond, through the use of the appropriate technological collection techniques or other forms of information technology.

It is estimated that 363,500 SF-87 or SF-87A inquiries are sent to individuals annually. Each form takes approximately five minutes to complete. The estimated annual burden is approximately 28,630 hours.

For copies of this proposal, contact Mary Beth Smith-Toomey on (202) 606-8358, fax (202) 418-3251 or e-mail to mbtoomey@opm.gov. Please be sure to include a mailing address with your request.

DATES: Comments on this proposal should be received within 60 calendar days from the date of this publication.

ADDRESSES: Send or deliver comments to: Kathy Dillaman, Deputy Associate Director, Center for Federal Investigative Services, U.S. Office of Personnel Management, 1900 E. Street, Room 5416, Washington, DC 20415.

FOR FURTHER INFORMATION CONTACT: SaBrina Price—Program Analyst, Program Services Group, Center for Federal Investigative Services, U.S. Office of Personnel Management, (202) 606-3534.

U.S. Office of Personnel Management.
Kay Coles James,
Director.

[FR Doc. 04-16399 Filed 7-19-04; 8:45 am]

BILLING CODE 6325-38-P